DEPARTMENT OF ENERGY

Bonneville Power Administration

Agency Information Collection Activities: Proposed Collection; Comment Request; Personal Identity Verification (PIV) Request

AGENCY: DOE-Bonneville Power Administration (BPA)

ACTION: 60-Day notice of submission of information collection approval from the Office of Management and Budget (OMB) and request for comments.

SUMMARY: BPA is seeking comments on a proposed submission to OMB for clearance of a collection of information under the provisions of the Paperwork Reduction Act of 1995. BPA collects information necessary to verify the personal identity of potential employees and contractors. The information assists BPA in the performance of identity verification and registration prior to issuance of a DOE Security Badge and ensures compliance with Homeland Security Presidential Directive-12 (HSPD-12), a mandatory, Government-wide standard for secure and reliable forms of identification issued by the Federal Government to its employees and contractors.

DATES: Comments must be received on or before December 18, 2015.

ADDRESSES: Written comments may be submitted by first class mail to: Christopher M. Frost, CGC-7, Bonneville Power Administration, 905 NE 11th Avenue, Portland, Oregon 97232, or by email: IGLM@bpa.gov.

FOR FURTHER INFORMATION CONTACT: Information Collection Clearance Officer, Christopher M. Frost, at the mailing address above or by email: IGLM@bpa.gov.

SUPPLEMENTARY INFORMATION: This information collection request contains:

I. Abstract

A recent internal audit of PRA compliance determined that this existing collection does not have an OMB clearance number. BPA is seeking approval for an information collection on personally identifiable information (PII) of new and existing Federal and contract personnel that will be used during the identity verification process. This information helps BPA determine eligibility for employment and access to BPA and DOE facilities. The relevant form, BPA F 5632.09e, collects name, home and email address, date and place of birth, Social Security number, and relevant Federal or contract work history. No third party notification or public disclosure burden is associated with this collection.

II. Request for Comments

BPA requests that you send your comments to the locations listed in the ADDRESSES section above. Your comments should include:

(a) The necessity of the information collection for the proper performance of BPA's functions, including whether the information will have practical utility;

(b) The accuracy of our estimate of the burden (hours and costs) of the collection of the information;

(c) Ways BPA could enhance the quality, utility, and clarity of the information to be collected; and

(d) Ways BPA could minimize the burden of the collection of the information, such as through the use of automated collection techniques or other forms of information technology.

An agency may not conduct or sponsor, and a person is not required to respond to, a collection of information unless it displays a valid Office of Management and Budget control number. Comments may be made available to the public, including your address, phone number, and email address. You may request that BPA withholds your personally identifiable information, but there is no guarantee that BPA will be able to do so.

III. Data

OMB Control Number: New.

Information Collection Request Title: Personal Identity Verification (PIV) Request.

Type of Request: New.

Respondents: BPA employees (Federal and contract) and applicants.

Annual Estimated Number of Respondents: 1350.

Annual Estimated Number of Total Responses: 1350.

Average Minutes per Response: 3.

Annual Estimated Number of Burden Hours: 67.5.

Annual Estimated Reporting and Recordkeeping Cost Burden: $0.

Issued in Portland, Oregon, on October 8, 2015.
Christopher M. Frost,
Agency Records Officer, FOIA/Privacy Officer, Governance and Internal Controls.

[FR Doc. 2015-26470 Filed10-16-15; 8:45 am]

BILLING CODE 6450-01-P